DEPARTMENT OF THE INTERIOR

National Park Service

[NPS-WASO-NAGPRA-NPS0037408; PPWOCRADN0-PCU00RP14.R50000]

Notice of Intended Repatriation: Museum of Riverside, Riverside, CA

AGENCY: National Park Service, Interior.

ACTION: Notice.

SUMMARY: In accordance with the Native American Graves Protection and Repatriation Act (NAGPRA), the Museum of Riverside intends to repatriate certain cultural items that meet the definition of objects of cultural patrimony and that have a cultural affiliation with the Indian Tribes or Native Hawaiian organizations in this notice.

DATES: Repatriation of the cultural items in this notice may occur on or after March 25, 2024.

ADDRESSES: Robyn G. Peterson, Ph.D., Museum Director, Museum of Riverside, 3580 Mission Inn Avenue, Riverside, CA 92501, telephone (951) 826-5792, email rpeterson@riversideca.gov.

SUPPLEMENTARY INFORMATION: This notice is published as part of the National Park Service's administrative responsibilities under NAGPRA. The determinations in this notice are the sole responsibility of the Museum of Riverside, and additional information on the determinations in this notice, including the results of consultation, can be found in the summary or related records. The National Park Service is not responsible for the determinations in this notice.

Abstract of Information Available

A total of two cultural items have been requested for repatriation. One item of cultural patrimony is an Oglala Sioux otter skin headdress or cape. From the Museum record: Item was worn by Chief Red Cloud/Sioux Warrior/Pine Ridge, SD; acquired by Harwood Hall, who had supervised Pine Ridge boarding school (1885-1893); donated to Museum in 1951; no documentation of associated hazardous substances. One item of cultural patrimony is an Oglala Sioux otter skin medicine bag including head, body, arms, legs, tail. From the Museum record: Acquired by Samuel Maus Purple (1878-1965) born Illinois; interested in fossils, archaeology; donated to Museum 1968; no documentation of associated hazardous substances.

Determinations

The Museum of Riverside has determined that:

• The two objects described in this notice have ongoing historical, traditional, or cultural importance central to the Native American group, including any constituent sub-group (such as a band, clan, lineage, ceremonial society, or other subdivision).

• There is a reasonable connection between the cultural items described in this notice and the Oglala Sioux Tribe.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2024. If competing requests for repatriation are received, the Museum of Riverside must determine the most appropriate requestor prior to repatriation. Requests for joint repatriation of the cultural items are considered a single request and not competing requests. The Museum of Riverside is responsible for sending a copy of this notice to the Indian Tribes and Native Hawaiian organizations identified in this notice and to any other consulting parties.

Authority: Native American Graves Protection and Repatriation Act, 25 U.S.C. 3004 and the implementing regulations, 43 CFR 10.9.

Dated: February 9, 2024
Melanie O'Brien,
Manager, National NAGPRA Program.

[FR Doc. 2024-03575 Filed 2-21-24; 8:45 am]

BILLING CODE 4312-52-P